DEPARTMENT OF THE TREASURY

Alcohol and Tobacco Tax and Trade Bureau

[Docket No. TTB-2015-0012; Notice No. 169]

Importation of Distilled Spirits, Wine, Beer, Malt Beverages, Tobacco Products, Processed Tobacco, and Cigarette Papers and Tubes; Cancellation of Pilot Program Testing Electronic Collection of Import Data

AGENCY: Alcohol and Tobacco Tax and Trade Bureau, Treasury.

ACTION: Notice of cancellation of pilot program.

SUMMARY: The Alcohol and Tobacco Tax and Trade Bureau (TTB) is cancelling a pilot program in which importers, U.S. Customs and Border Protection (CBP), and TTB tested, as part of the International Trade Data System (ITDS) project, the electronic collection of import-related data required by TTB and the transfer of that data to TTB. TTB has amended its regulations to permanently provide importers with the option to file import-related data electronically along with the filing of the entry or entry summary with CBP, making the pilot program no longer necessary.

DATES: The cancellation of the pilot program is effective December 31, 2016.

FOR FURTHER INFORMATION CONTACT: John Kyranos, Regulations and Rulings Division, Alcohol and Tobacco Tax and Trade Bureau, 1310 G Street NW., Box 12, Washington, DC 20005; telephone (202) 453-1039, extension 001; or email itds@ttb.gov.

For technical questions related to the Automated Commercial Environment (ACE) or Automated Broker Interface (ABI) transmissions, contact Steven Zaccaro at steven.j.zaccaro@cbp.dhs.gov.

SUPPLEMENTARY INFORMATION: In Notice No. 156, a Federal Register notice published on August 7, 2015 (80 FR 47558), the Alcohol and Tobacco Tax and Trade Bureau (TTB) announced a pilot program to test the collection and transfer of certain import data through the Automated Commercial Environment (ACE), which is maintained by U.S. Customs and Border Protection (CBP). This pilot was part of TTB's effort to implement the International Trade Data System (ITDS). The pilot program was open to importers of distilled spirits, wine, beer and malt beverages, tobacco products, processed tobacco, and cigarette papers and tubes, and to U.S. government and industrial alcohol users (referred to in this document, collectively, as “importers”).

Notice No. 156 also announced the availability of, and requested comment on, a draft of the ACE Filing Instructions for TTB-Regulated Commodities (Filing Instructions), which contains instructions for proper electronic filing of import data for TTB-regulated commodities. TTB requested comment on the draft Filing Instructions for 60 days ending October 6, 2015. TTB received no written comments by that date. However, TTB's experience administering the pilot program led us to make several changes to the Filing Instructions.

In Industry Circular 2015-01, issued on October 21, 2015, TTB described how importers participating in the pilot program would submit specific information through ACE, either as an approved alternative to procedures prescribed in the TTB regulations or as a means to fulfill or demonstrate compliance with regulatory requirements. At the time, most TTB regulations that required the submission of information to CBP at importation required importers to submit paper documents or paper copies of those documents to CBP. Industry Circular 2015-01 also provided specific information about how to apply to participate in the pilot program.

In T.D. TTB-145, a final rule published in the Federal Register on December 22, 2016 (81 FR 94186), and effective December 31, 2016, TTB amended its regulations to clarify and streamline import procedures, and support the implementation of ITDS and the filing of import information electronically. The amendments include providing the option for importers to file import-related data electronically when filing entry or entry summary data electronically with CBP. As a result, as of December 31, 2016, the TTB regulations provide all TTB-regulated importers with the same option to file import-related information through ACE that participants in the pilot program had.

For this reason, this document announces the cancellation of the pilot program and Industry Circular 2015-01, effective December 31, 2016. On that date, importers who have been participating in the pilot program must follow TTB's regulations with regard to submitting data through ACE for importation of TTB-regulated commodities. Importers who have not been participating in the pilot program also must follow TTB's amended regulations to submit required information on paper or electronically.

In addition to the changes TTB made to the Filing Instructions due to the experience gained through the pilot program, TTB has also updated the Filing Instructions to reflect the regulatory changes made in T.D. TTB-145. The latest version of the Filing Instructions can be found on https://www.cbp.gov by searching for its title.

TTB notes that transmissions to ACE must be through a CBP-approved electronic data interchange system. For more information on submission of import-related information and forms through ACE, please see CBP's home page on use of ACE at https://www.cbp.gov/trade/automated.

For more general information on TTB's implementation of ITDS, see https://www.ttb.gov/importers/learn-more-itds.shtml.

Drafting Information

Andrew Malone of the Regulations and Rulings Division drafted this notice.

Signed: January 3, 2017.
John J. Manfreda,
Administrator.

[FR Doc. 2017-00083 Filed 1-6-17; 8:45 am]

BILLING CODE 4810-31-P